DEPARTMENT OF LABOR

Employment and Training Administration

[TA-W-38,169; TA-W-38,169A]

Quality Veneer & Lumber, Handel Lumber Division, Hood River, Oregon and Odell, Oregon. Notice of Revised Determination on Reopening

On December 22, 2000, the Department issued a Notice of Negative Determination Regarding Eligibility to Apply to Worker Adjustment Assistance, applicable to workers of Quality Veneer & Lumber, Handel Lumber Division, Hood River and Odell, Oregon. The notice will soon be published in the Federal Register.

The initial investigation resulted in a negative determination for the workers producing dimension lumber at the subject firm plants, based on the finding that criterion (3) of Section 222 of the worker group eligibility requirements of the Trade Act of 1974, as amended, was not met.

The Department has obtained a response from a customer of the subject firm showing that the customer increased reliance on import purchases of dimension lumber during the time period that Quality Veneer was reducing production and employment.

Conclusion

After careful review of the additional facts obtained on reopening, I conclude that increased imports of articles like or directly competitive with dimension lumber contributed importantly to the declines in sales or production and to the, total or partial separation of workers of Quality Veneer & Lumber, Hood River, Oregon and Odell, Oregon. In accordance with the provisions of the Act, I make the following certification:

All workers of Quality Veneer & Lumber, Hood River, Oregon and Odell, Oregon, who became totally or partially separated from employment on or after September 20, 1999, through two years from the date of certification, are eligible to apply for adjustment assistance under Section 223 of the Trade Act of 1974.

Signed in Washington, DC, this 9th day of January, 2001.
Linda G. Poole,
Certifying Officer, Division of Trade Adjustment Assistance.

[FR Doc. 01-1901 Filed 1-22-01; 8:45 am]

BILLING CODE 4510-30-M